DEPARTMENT OF THE TREASURY

Internal Revenue Service

26 CFR Part 1

[REG-106590-00; REG-138499-02]

RIN 1545-AX95; RIN 1545-BB05

Depreciation of MACRS Property That Is Acquired in a Like-Kind Exchange or as a Result of an Involuntary Conversion; Hearing Cancellation

AGENCY: Internal Revenue Service (IRS), Treasury.

ACTION: Cancellation of public hearing on proposed rulemaking.

SUMMARY: This document relates to a cancellation of a public hearing for proposed regulations that provide guidance on how to depreciate MACRS property acquired in a like-kind exchange under section 1031 or as a result of an involuntary conversion under section 1033 when both the acquired and relinquished property are subject to MACRS in the hands of the acquiring taxpayer.

DATES: The public hearing originally scheduled for June 3, 2004, at 10 a.m., is cancelled.

FOR FURTHER INFORMATION CONTACT: Robin R. Jones of the Publications and Regulations Branch, Legal Processing Division at (202) 622-7180 (not a toll-free number).

SUPPLEMENTARY INFORMATION: A notice of proposed rulemaking and notice of public hearing that appeared in the Federal Register on Monday, March 1, 2004 (69 FR 9560), announced that a public hearing was scheduled for June 3, 2004, at 10 a.m., in the auditorium. The subject of the public hearing is proposed regulations under section 168 of the Internal Revenue Code. The public comment period for these regulations expired on June 1, 2004. The outlines of oral comments were due on May 13, 2004.

The notice of proposed rulemaking and notice of public hearing instructed those who are interested in testifying at the public hearing to submit an outline of the topics to be addressed. As of Wednesday, May 19, 2004, no one has requested to speak. Therefore, the public hearing scheduled for June 3, 2004, is cancelled.

Cynthia E. Grigsby,
Acting Chief, Publications and Regulations Branch, Legal Processing Division, Associate Chief Counsel, (Procedure and Administration).

[FR Doc. 04-11809 Filed 5-24-04; 8:45 am]

BILLING CODE 4830-01-P